COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments [if any].

DATES: Comments must be submitted on or before March 25, 2002.

FOR FURTHER INFORMATION OR A COPY CONTACT: Gary Martinaitis, Division of Economic Analysis, Commodity Futures Trading Commission, 1155 21st Street, NW., Washington, DC 20581, (202) 418-5209; FAX: (202) 418-5527; email: gmartinaitis@cftc.gov and refer to OMB Control No. 3038-0013.

SUPPLEMENTARY INFORMATION:

Title: Exemptions from Speculative Limits (OMB Control No. 3038-0013). This is a request for extension of a currently approved information collection.

Abstract: Commission Rules 1.47, 1.48, and 150.3(b) requirement limited information from trades whose futures positions exceed federal speculative limits. The rules are designed to assist in the monitoring of compliance with speculative limits adopted by the Commission. These rules are promulgated pursuant to the Commission's rulemaking authority contained in Sections 4a(a), 4i, and 8a(5) of the Commodity Exchange Act, 7 USC 6a(1), 6i, and 12a(5).

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on October 5, 2001 (66 FR 51025).

Burden statement. The respondent burden for this collection is estimated to average three hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: 5.

Estimated number of responses: 5.

Estimated total annual burden on respondents: 15 hours.

Frequency of collection: On occasion.

Send comments regarding the burden estimated or any other aspect of the information collection, including suggestions for reducing the burden, to the addresses listed below. Please refer to OMB Control No. 3038-0013 in any correspondence.

Gary Martinaitis, Division of Economic Analysis, Commodity Futures Trading Commission, 1155 21st Street, NW., Washington, DC 20581 and Office of Information and Regulatory Affairs, Office of Management and Budget, Attention: Desk Officer for CFTC, 725 17th Street, Washington, DC 20503.

Dated: February 14, 2002.
Jean A. Webb,
Secretary of the Commission.

[FR Doc. 02-4103 Filed 2-20-02; 8:45 am]

BILLING CODE 6351-01-M